NUCLEAR REGULATORY COMMISSION

10 CFR Chapter I

[NRC-2020-0125]

RIN 3150-AK48

Miscellaneous Corrections; Correction

AGENCY: Nuclear Regulatory Commission.

ACTION: Final rule, correcting amendment.

SUMMARY: The U.S. Nuclear Regulatory Commission (NRC) is correcting a final rule that appeared in the Federal Register on October 16, 2020, and became effective on November 16, 2020. That document inadvertently replaced an outdated Executive Order with an incorrect reference. This document corrects the reference to the Executive Order in the final rule.

DATES: This correction is effective on November 25, 2020.

ADDRESSES: Please refer to Docket ID NRC-2020-0125 when contacting the NRC about the availability of information for this action. You may obtain publicly-available information related to this action by any of the following methods:

• Federal Rulemaking Website: Go to https://www.regulations.gov and search for Docket ID NRC-2020-0125. Address questions about NRC dockets to Dawn Forder; telephone: 301-415-3407; email: Dawn.Forder@nrc.gov.

• NRC's Agencywide Documents Access and Management System (ADAMS): You may obtain publicly-available documents online in the ADAMS Public Documents Collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• Attention: The Public Document Room (PDR), where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Jill Shepherd, Office of Nuclear Material Safety and Safeguards, U.S. Nuclear Regulatory Commission, Washington, DC 20555-0001; telephone: 301-415-1230, email: Jill.Shepherd@nrc.gov.

SUPPLEMENTARY INFORMATION: The NRC is correcting FR Doc. 20-21148, a final rule that was published in the Federal Register on October 16, 2020 (85 FR 65656), and became effective on November 16, 2020. That document inadvertently replaced an outdated Executive Order with an incorrect reference. This document corrects the reference to the Executive Order in the final rule.

On page 65657, third column, under the heading “10 CFR part 73,” correct the paragraph “Correct Reference. This final rule corrects the reference in § 73.57(b)(2)(iii) to read “Executive Order 13767, as amended by Executive Order 13764,” which replaced Executive Order 10450.” to read “Correct Reference. This final rule corrects the reference in § 73.57(b)(2)(iii) to read “Executive Order 13467, as amended by Executive Order 13764,” which replaced Executive Order 10450.”

List of Subjects In 10 CFR Part 73

Criminal penalties, Exports, Hazardous materials transportation, Incorporation by reference, Imports, Nuclear energy, Nuclear materials, Nuclear power plants and reactors, Penalties, Reporting and recordkeeping requirements, Security measures.

Accordingly, 10 CFR part 73 is corrected by making the following correcting amendments:

PART 73—PHYSICAL PROTECTION OF PLANTS AND MATERIALS

1. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.1 also issued under Nuclear Waste Policy Act secs. 135, 141 (42 U.S.C. 10155, 10161).

Section 73.37(b)(2) also issued under Sec. 301, Public Law 96-295, 94 Stat. 789 (42 U.S.C. 5841 note).

Section 73.37(f) also issued under Sec. 301, Pub. L. 96-295, 94 Stat. 789 (42 U.S.C. 5841 note).

§ 73.57 [Amended]

2. In § 73.57(b)(2)(iii), remove “Executive Order 13767” and add in its place “Executive Order 13467”.

Dated November 18, 2020.
For the Nuclear Regulatory Commission.
Pamela J. Shepherd-Vladimir,
Acting Chief Regulatory Analysis and Rulemaking Support Branch, Division of Rulemaking, Environmental, and Financial Support, Office of Nuclear Material Safety and Safeguards.

[FR Doc. 2020-25875 Filed 11-24-20; 8:45 am]

BILLING CODE 7590-01-P